DEPARTMENT OF HOMELAND SECURITY

Coast Guard

[Docket No. USCG-2015-0910]

Collection of Information Under Review by Office of Management and Budget; OMB Control Number: 1625-0001

AGENCY: Coast Guard, DHS.

ACTION: Thirty-day notice requesting comments.

SUMMARY: In compliance with the Paperwork Reduction Act of 1995 the U.S. Coast Guard is forwarding an Information Collection Request (ICR), abstracted below, to the Office of Management and Budget (OMB), Office of Information and Regulatory Affairs (OIRA), requesting approval of a revision to the following collection of information: 1625-0001, Report of Marine Casualty & Chemical Testing of Commercial Vessel Personnel. Our ICR describes the information we seek to collect from the public. Review and comments by OIRA ensure we only impose paperwork burdens commensurate with our performance of duties.

DATES: Comments must reach the Coast Guard and OIRA on or before March 4, 2016.

ADDRESSES: You may submit comments identified by Coast Guard docket number [USCG-2015-0910] to the Coast Guard using the Federal eRulemaking Portal at http://www.regulations.gov. Alternatively, you may submit comments to OIRA using one of the following means:

(1) Email: OIRA-submission@omb.eop.gov.

(2) Mail: OIRA, 725 17th Street NW., Washington, DC 20503, attention Desk Officer for the Coast Guard.

(3) Fax: 202-395-6566. To ensure your comments are received in a timely manner, mark the fax, attention Desk Officer for the Coast Guard.

A copy of the ICR is available through the docket on the Internet at http://www.regulations.gov. Additionally, copies are available from: Commandant (CG-612), Attn: Paperwork Reduction Act Manager, U.S. Coast Guard, 2703 Martin Luther King Jr. Ave. SE., Stop 7710, Washington, DC 20593-7710.

FOR FURTHER INFORMATION CONTACT: Mr. Anthony Smith, Office of Information Management, telephone 202-475-3532, or fax 202-372-8405, for questions on these documents.

SUPPLEMENTARY INFORMATION:

Public Participation and Request for Comments

This Notice relies on the authority of the Paperwork Reduction Act of 1995; 44 U.S.C. Chapter 35, as amended. An ICR is an application to OIRA seeking the approval, extension, or renewal of a Coast Guard collection of information (Collection). The ICR contains information describing the Collection's purpose, the Collection's likely burden on the affected public, an explanation of the necessity of the Collection, and other important information describing the Collection. There is one ICR for each Collection. The Coast Guard invites comments on whether this ICR should be granted based on the Collection being necessary for the proper performance of Departmental functions. In particular, the Coast Guard would appreciate comments addressing: (1) The practical utility of the Collection; (2) the accuracy of the estimated burden of the Collection; (3) ways to enhance the quality, utility, and clarity of information subject to the Collection; and (4) ways to minimize the burden of the Collection on respondents, including the use of automated collection techniques or other forms of information technology. These comments will help OIRA determine whether to approve the ICR referred to in this Notice.

We encourage you to respond to this request by submitting comments and related materials. Comments to Coast Guard or OIRA must contain the OMB Control Number of the ICR. They must also contain the docket number of this request, [USCG-2015-0910], and must be received by March 4, 2016.

Submitting Comments

We encourage you to submit comments through the Federal eRulemaking Portal at http://www.regulations.gov. If your material cannot be submitted using http://www.regulations.gov, contact the person in the FOR FURTHER INFORMATION CONTACT section of this document for alternate instructions. Documents mentioned in this Notice, and all public comments, are in our online docket at http://www.regulations.gov and can be viewed by following that Web site's instructions. Additionally, if you go to the online docket and sign up for email alerts, you will be notified when comments are posted.

We accept anonymous comments. All comments received will be posted without change to http://www.regulations.gov and will include any personal information you have provided. For more about privacy and the docket, you may review a Privacy Act notice regarding the Federal Docket Management System in the March 24, 2005, issue of the Federal Register (70 FR 15086).

OIRA posts its decisions on ICRs online at http://www.reginfo.gov/public/do/PRAMain after the comment period for each ICR. An OMB Notice of Action on each ICR will become available via a hyperlink in the OMB Control Number: 1625-0001.

Previous Request for Comments

This request provides a 30-day comment period required by OIRA. The Coast Guard published the 60-day Notice (80 FR 64430, October 23, 2015) required by 44 U.S.C. 3506(c)(2). We received two comment submissions to the 60-day Notice.

The first commenter asked that future versions of the form CG-2692 be “unlocked” so that a computer application that the commenter's company uses may auto-fill in the form data elements. We are unable to accommodate this request at this time, as it is Coast Guard policy that public use forms be locked/secured so they may not be modified. However, this concern may be alleviated in the future as the Coast Guard moves to permit the online submission of marine casualty reports.

The second commenter raised five issues. The first issue raised by the commenter stated that the ICR title “Marine Casualty Information and Periodic Chemical Testing Drug and Alcohol Testing of Commercial Vessel Personnel” is in error and could lead to erroneous reporting of test results.

We agree with the commenter that the historical use of the term “Periodic” may result in some confusion resulting in unnecessary reporting of chemical test results to the Coast Guard. As a result, we revised the title to remove that term and to better reflect the intent of the collection. The revised title is “Report of Marine Casualty & Chemical Testing of Commercial Vessel Personnel”.

The second issue raised by the commenter addressed the wording found in the “Need” section of the 60-day Notice. The commenter questioned the appropriateness of the term “cured” noting that the opinion of a majority of substance abuse treatment specialists have determined that substance abuse is never cured, but rather, is a treatable medical condition. The commenter further noted that the Coast Guard regulation, 46 CFR 16.201(f), acknowledges that the individual is not required to be cured. Rather, that the individual is determined to be of sufficiently low-risk for misuse by a Medical Review Officer.

We agree with the commenter that the inclusion of the historical term “cured” is inconsistent with existing Coast Guard regulations regarding chemical testing requirements and that current substance-abuse rehabilitative science determines addiction to be a treatable condition that is not curable. For these reasons, we edited our “Need” section in this Notice to remove the term “cured” and inserted language that is both consistent with existing Coast Guard regulations and current substance-abuse rehabilitative science.

The third issue raised by the commenter was a statement questioning the data found on the form OMB 83-I of the ICR. The commenter stated that it was challenging to understand the quantitative dispersion of annual responses published in the ICR. The commenter asked for greater specificity as to the representative value of the 180,489 annual responses. The commenter requested additional information to include identification information of the responders, a summary of the responses, the timeframe in which the responses were received, a comparison of the 180,489 responses received in other years and finally, analytical data to determine the mean average of responses for the last five years.

We note that the form OMB 83-I information is a summary, and that a detailed breakdown of the responses are found in Appendix A to the Supporting Statement. The Supporting Statement and Appendix A are found in the docket to the Notice (see documents USCG-2015-0910-0004 and USCG-2015-0910-0005 respectively). Further we note that the number of 180,489 annual responses is generally consistent with year-over-year comparisons and represents neither the least or greatest annual response rate in recent years. Therefore, we hold this number to be both accurate and representative of the annual response burden upon industry. We do not agree with the commenter that an exhaustive analytical review of the data is necessary.

The fourth issue raised by the commenter questioned who is going to be responsible for the completion of the proposed new forms [CG-2692C & CG-2692D]? The commenter opined that the stated intent of the ICR, to streamline the reporting process and to reduce the burden upon industry, would not be the outcome of adding two new forms. The commenter further stated that it should be the responsibility of the Coast Guard to complete the new forms themselves.

As explained in the 60-day Notice section entitled “Why is the Coast Guard Proposing to Add 2 New Forms”, these two new forms do not seek to add any new information to be collected in the request. Instead, they take certain sections of the existing form CG-2692 and move them to these two new forms. Additionally, in the event there are multiple entries required (e.g. several injuries, etc.) these new forms easily facilitate multiple entries for the submitter. As with the current forms and consistent with the regulatory requirements found in Title 46 CFR part 4, the owner, agent, master, operator, or person in charge of a vessel are responsible to complete the forms.

The fifth issue raised by the commenter requested greater information concerning the evaluation of comments from the maritime industry and general public identifying the need to revise these forms and to add two new forms. Specifically, the commenter asked if the evaluation was published or if an information request was published to facilitate this evaluation?

The Coast Guard conducted multiple opportunities for marine industry and public participation to the evaluation of the marine casualty reporting process. This effort was made by the Coast Guard to ensure both the marine industry and the public were provided multiple opportunities to provide input to the revision of the marine casualty reporting process. The Coast Guard also conducted a deliberative internal review of process logistics to ensure that only information necessary to evaluating marine casualties was included as required reporting in the proposed new forms.

The Coast Guard engagement with the marine industry and the public was designed to ensure multiple opportunities for participation and to include a broad representative sample of input. In 2013, the Coast Guard's Towing Safety Advisory Committee (TSAC) was consulted in accordance with the Federal Advisory Committee Act. The input received from TSAC, advising revision to the marine casualty reporting process, contributed greatly to this proposal to reformat and restructure the existing form CG-2692.

Again in 2014, the Coast Guard sought-out input from the marine industry and the public when we issued a Notice of Availability and Request for Comments on January 14, 2014 (79 FR 2466) for a draft Navigation and Vessel Inspection Circular (NVIC). This publication provided guidance for the identification and reporting of marine casualties.

The comments received from the marine industry and the public to this NVIC proposal, advising revision to the marine casualty reporting process, contributed greatly to the proposal to reformat and restructure the existing form CG-2692.

Information Collection Request

1. Title: Report of Marine Casualty & Chemical Testing of Commercial Vessel Personnel.

OMB Control Number: 1625-0001.

Summary: Marine casualty information is needed for CG investigations of commercial vessel casualties involving death, vessel damage, etc., as mandated by Congress. Chemical testing information is needed to improve CG detection/reduction of drug use by mariners.

Need: Section 6101 of 46 U.S.C. as delegated by the Secretary of Homeland Security to the Commandant, authorizes the Coast Guard to prescribe regulations for the reporting of marine casualties involving death, serious injury, material loss of property, material damage affecting the seaworthiness of a vessel, or significant harm to the environment. It also requires information on the use of alcohol being included in a marine casualty report. Section 7503 of 46 U.S.C. authorizes the Coast Guard to deny the issuance of licenses, certificates of registry, and merchant mariner's documents (seaman's papers) to users of dangerous drugs. Similarly, 46 U.S.C. 7704 requires the Coast Guard to revoke such papers when a holder of the same has been shown to be a drug user unless the holder provides satisfactory proof that the holder has successfully completed a rehabilitation program acceptable to the Coast Guard and is determined to be, by a competent substance abuse professional, free from misuse of chemical substances and that the risk of subsequent misuse of chemical substances is sufficiently low to justify returning to safety-sensitive positions..

Forms: CG-2692, Report of Marine Casualty, Commercial Diving Casualty, or OCS-related Casualty; CG-2692A, Barge Addendum; CG-2692B, Report of Mandatory Chemical Testing Following a Serious Marine Incident Involving Vessels in Commercial Service; CG-2692C, Personnel Casualty Addendum; and CG-2692D, Involved Persons and Witnesses Addendum.

Respondents: Vessels owners and operators.

Frequency: On occasion. This information collection has a requirement for recordkeeping.

Hour Burden Estimate: The estimated burden has increased from 20,986 hours to 23,586 hours a year due to an increase in the estimated number of responses.

Authority: The Paperwork Reduction Act of 1995; 44 U.S.C. Chapter 35, as amended.

Dated: January 26, 2016.
Thomas P. Michelli,
U.S. Coast Guard, Deputy Chief Information Officer.

[FR Doc. 2016-01896 Filed 2-2-16; 8:45 am]

BILLING CODE 9110-04-P